DEPARTMENT OF TRANSPORTATION

Federal Aviation Administration

Noise Exposure Map Notice for Lehigh Valley International Airport, Allentown, Pennsylvania

AGENCY: Federal Aviation Administration, DOT

ACTION: Notice.

SUMMARY: The Federal Aviation Administration (FAA) announces its determination that the noise exposure maps submitted by the Lehigh-Northampton Airport Authority for Lehigh Valley International Airport under the provisions of 49 U.S.C. 47501 et. seq (Aviation Safety and Noise Abatement Act) and 14 CFR part 150 are in compliance with applicable requirements.

DATES: Effective Date: The effective date of the FAA's determination on the noise exposure maps is November 28, 2016.

FOR FURTHER INFORMATION CONTACT: Harrisburg Airports District Office (HAR ADO), Susan L. McDonald, Environmental Protection Specialist, Federal Aviation Administration, HAR ADO, 3905 Hartzdale Drive, Suite 508, Camp Hill, PA 17011, Telephone: (717) 730-2830.

SUPPLEMENTARY INFORMATION: This notice announces that the FAA finds that the noise exposure maps submitted for Lehigh Valley International Airport are in compliance with applicable requirements of 14 CFR 150 (part 150), effective January 13, 2004. Under 49 U.S.C. Section 47503 of the Aviation Safety and Noise Abatement Act (hereinafter referred to as “the Act”), an airport operator may submit to the FAA noise exposure maps which meet applicable regulations and which depict non-compatible land uses as of the date of submission of such maps; a description of estimated aircraft operations during a forecast period that is at least five (5) years in the future; and the ways in which such operations will affect such maps. The Act requires such maps to be developed in consultation with interested and affected parties in the local community, government agencies, planning authorities, and persons using the airport. An airport operator that has submitted noise exposure maps that are found by FAA to be in compliance with the requirements of Federal Aviation Regulations (FAR) Part 150, promulgated pursuant to the Act, may submit a noise compatibility program for FAA approval, which sets forth the measures the operator has taken or proposes to take to reduce existing non-compatible uses and prevent the introduction of additional non-compatible uses.

The FAA has completed its review of the noise exposure maps and accompanying documentation submitted by Lehigh-Northampton Airport Authority. The documentation that constitutes the “Noise Exposure Maps” (NEM) as defined in Section 150.7 of Part 150 includes 2015 Base Year NEM, Figure 4-5; and 2020 Future Year NEM, Figure 5-1. The Noise Exposure Maps contain current and forecast information, including the depiction of the airport and its boundaries; the runway configurations; land uses such as residential, open space, commercial/retail, community facilities, libraries, churches, and warehouses; and those areas within the Day Night Average Sound Level (DNL) 65, 70 and 75 noise contours. Estimates for the area within these contours for the 2015 Base Year are shown in Table 4-8 and Table 4-9, and in Chapter 4 of the NEM. Estimates of the residential population within the 2020 Future Year noise contours are shown in Table 5-5, and in Chapter 5 of the NEM. Figure 3-1, in Chapter 3, displays the location of noise monitoring sites. Flight tracks are found in Chapter 4, and detailed in Appedix C. The type and frequency of aircraft operations (including nighttime operations) are found in Chapter 4, Tables 4-5 and 4-6. The FAA has determined that these noise exposure maps and accompanying documentation are in compliance with applicable requirements. This determination is effective on November 28, 2016.

FAA's determination on an airport operator's noise exposure maps is limited to a finding that the maps were developed in accordance with the procedures contained in Appendix A of FAR Part 150. Such determination does not constitute approval of the applicant's data, information or plans, or a commitment to approve a noise compatibility program or to fund the implementation of that program. If questions arise concerning the precise relationship of specific properties to noise exposure contours depicted on a noise exposure map submitted under Section 47503 of the Act, it should be noted that the FAA is not involved in any way in determining the relative locations of specific properties with regard to the depicted noise contours, or in interpreting the noise exposure maps to resolve questions concerning, for example, which properties should be covered by the provisions of Section 47506 of the Act. These functions are inseparable from the ultimate land use control and planning responsibilities of local government. These local responsibilities are not changed in any way under Part 150 or through the FAA's review of noise exposure maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of FAR Part 150, that the statutorily required consultation has been accomplished.

Copies of the full noise exposure map documentation and of the FAA's evaluation of the maps are available for examination at the following locations:

Federal Aviation Administration, Eastern Region, Airports Division, AEA-600, 1 Aviation Plaza, Jamaica, New York 11434.

Federal Aviation Administration, Harrisburg Airports District Office, 3905 Hartzdale Drive, Suite 508, Camp Hill, PA 17011.

Charles R. Everett, Executive Director, Lehigh Valley International Airport, Lehigh Northamption Aiport Authority, 3311 Airport Road, Allentown, PA 18109-3040.

FOR FURTHER INFORMATION CONTACT: Harrisburg Airports District Office (HAR ADO), Susan L. McDonald, Environmental Protection Specialist, Federal Aviation Administration, HAR ADO, 3905 Hartzdale Drive, Suite 508, Camp Hill, PA 17011, Telephone: (717) 730-2830.

Issued in Camp Hill, PA on November 21, 2016.
Lori K. Pagnanelli,
Manager, Harrisburg Airports District Office, Eastern Region.

[FR Doc. 2016-29145 Filed 12-5-16; 8:45 am]

BILLING CODE 4910-13-P